DEPARTMENT OF COMMERCE

International Trade Administration

A-588-046

Polychloroprene Rubber from Japan: Notice of Initiation and Preliminary Results of Changed Circumstances Review, and Intent to Revoke Antidumping Duty Finding in Part

AGENCY: Import Administration, International Trade Administration, Department of Commerce.

EFFECTIVE DATE: August 11, 2006.

SUMMARY: On June 30, 2006, the Department of Commerce (the Department) received a request on behalf of the petitioner, DuPont Performance Elastomers L.L.C. (DuPont)¹ for a changed circumstances review and a request to revoke, in part, the antidumping duty (AD) finding on certain polychloroprene rubber products from Japan. In its June 30, 2006, submission, DuPont stated that it no longer has any interest in antidumping relief from imports of such polychloroprene rubber with respect to the subject merchandise defined in the “Scope of the Finding” section below. Interested parties are invited to comment on these preliminary results.

¹ DuPont is the sole petitioner in this antidumping proceeding. See Polychloroprene Rubber From Japan: Final Results of the Expedited Sunset Review of the Antidumping Duty Finding, 69 FR 64276 (November 4, 2004).

FOR FURTHER INFORMATION CONTACT: Maisha Cryor or Mark Manning, Import Administration, International Trade Administration, U.S. Department of Commerce, 14th Street and Constitution Avenue, N.W., Washington D.C. 20230; telephone (202) 482-5831 and (202) 482-5253, respectively.

SUPPLEMENTARY INFORMATION:

Background

On December 6, 1973, the Department of Treasury published in the Federal Register (38 FR 33593) the antidumping finding on polychloroprene rubber from Japan. On June 30, 2006, DuPont requested revocation in part of the AD finding pursuant to sections 751(b)(1) and 782(h) of the Tariff Act of 1930, as amended (the Act), with respect to (1) aqueous dispersions of polychloroprenes that are dipolymers of chloroprene and methacrylic acid, where the dispersion has a pH of 8 or lower (this category is limited to aqueous dispersions of these polymers and does not include aqueous dispersions of these polychloroprenes that contain comonomers other than methacrylic acid); (2) aqueous dispersions of polychloroprenes that are dipolymers of chloroprene and 2,3-dichlorobutadiene-1,3 modified with xanthogen disulfides, where the dispersion has a solids content of greater than 59 percent (this category is limited to aqueous dispersions of these polymers and does not include aqueous dispersions of polychloroprenes that contain comonomers other than 2,3-dichlorobutadiene-1,3); and (3) solid polychloroprenes that are dipolymers of chloroprene and 2,3-dichlorobutadiene-1,3 having a 2,3-dichlorobutadiene-1,3 content of 15 percent or greater (this category is limited to polychloroprenes in solid form and does not include aqueous dispersions).

Scope of the Finding

Imports covered by this finding are shipments of polychloroprene rubber, an oil resistant synthetic rubber also known as polymerized chlorobutadiene or neoprene, currently classifiable under items 4002.41.00, 4002.49.00, 4003.00.00 of the Harmonized Tariff Schedule of the United States (HTSUS). HTSUS item numbers are provided for convenience and customs purposes. The Department's written description of the scope remains dispositive.

Initiation and Preliminary Results of Changed Circumstances Review, and Intent to Revoke Finding in Part

In this case, the Department finds that the information submitted by DuPont provides sufficient evidence of changed circumstances to warrant a review. In accordance with sections 751(b)(1) and 751(d)(1) of the Act and 19 CFR 351.216 (b), based on the information provided by DuPont, the Department is initiating a changed circumstances review of polychloroprene rubber from Japan to determine whether partial revocation of the AD finding is warranted with respect to the aforementioned certain polychloroprene rubber products from Japan. Section 782(h)(2) of the Act and 19 CFR 351.222(g)(1)(i) provide that the Department may revoke an order (in whole or in part) if it determines that producers accounting for substantially all of the production of the domestic like product have no further interest in the order, in whole or in part. DuPont is the sole petitioner and U.S. producer of polychloroprene rubber and accounts for all of the production of the domestic like product to which the finding pertains.² See DuPont's June 30, 2006, submission at page 2. In addition, in the event the Department determines that expedited action is warranted, 19 CFR 351.221(c)(3)(ii) permits the Department to combine the notices of initiation and preliminary results.

² DuPont has been the sole U.S. producer of polychloroprene rubber since 1998, when Bayer closed its polychloroprene rubber plant in Houston, Texas. See Polychhloroprene Rubber from Japan, Inv. No. AA-1921-129 (Second Review), U.S. ITC Pub. 3786, at 4-5 (June 2005).

In accordance with sections 751(d)(1) and 782(h)(2) of the Act, and 19 CFR 351.222(g)(l)(i), we are conducting this changed circumstances review because the sole petitioner and domestic producer of polychloroprene rubber has expressed a lack of interest in applying the AD finding to the specific polychloroprene rubber from Japan covered by this request. In accordance with 19 CFR 351.221(c)(3)(ii), we have determined that expedited action is warranted. Our decision to expedite this review stems from the fact that the sole petitioner and domestic producer of the subject merchandise, DuPont, requested expedited action.

Based on the expression of no interest by the sole domestic producer, we have preliminarily determined that producers accounting for substantially all of the domestic like product have no interest in the continued application of the AD finding on polychloroprene rubber that is subject to this request. Therefore, we are notifying the public of our intent to revoke, in part, the AD finding as it relates to imports of certain polychloroprene rubber products from Japan.

Therefore, we intend to amend the scope of the finding on polychloroprene rubber from Japan to read as follows: Imports covered by this review are shipments of polychloroprene rubber, an oil resistant synthetic rubber also known as polymerized chlorobutadiene or neoprene, currently classifiable under items 4002.41.00, 4002.49.00, 4003.00.00 of the Harmonized Tariff Schedule of the United States (HTSUS). HTSUS item numbers are provided for convenience and customs purpose. The Department's written description of the scope remains dispositive.

In addition, the following types of polychloroprene rubber are excluded from the scope of the finding: (1) aqueous dispersions of polychloroprenes that are dipolymers of chloroprene and methacrylic acid, where the dispersion has a pH of 8 or lower (this category is limited to aqueous dispersions of these polymers and does not include aqueous dispersions of these polychloroprenes that contain comonomers other than methacrylic acid); (2) aqueous dispersions of polychloroprenes that are dipolymers of chloroprene and 2,3-dichlorobutadiene-1,3 modified with xanthogen disulfides, where the dispersion has a solids content of greater than 59 percent (this category is limited to aqueous dispersions of these polymers and does not include aqueous dispersions of polychloroprenes that contain comonomers other than 2,3-dichlorobutadiene-1,3); and (3) solid polychloroprenes that are dipolymers of chloroprene and 2,3-dichlorobutadiene-1,3 having a 2,3-dichlorobutadiene-1,3 content of 15 percent or greater (this category is limited to polychloroprenes in solid form and does not include aqueous dispersions).

Public Comment

Interested parties are invited to comment on these preliminary results. Written comments may be submitted no later than 14 days after the date of publication of this notice. Rebuttals to written comments, limited to issues raised in such comments, may be filed no later than 21 days after the date of publication of this notice. Also, interested parties may request a hearing within 14 days of publication of this notice. All written comments shall be submitted in accordance with 19 CFR 351.303 and shall be served on all interested parties. The Department will issue the final results of this changed circumstances review, which will include the results of its analysis raised in any such written comments, no later than 270 days after the date on which this review was initiated, or within 45 days if all parties agree to our preliminary results. See 19 CFR 351.216(e).

If final partial revocation occurs, we will instruct U.S. Customs and Border Protection to end the suspension of liquidation for the merchandise covered by the revocation on the effective date of the notice of revocation and to release any cash deposit or bond. See 19 CFR 351.222(g)(4). The current requirement for a cash deposit of estimated AD duties on all subject merchandise will continue unless and until it is modified pursuant to the final results of this changed circumstances review.

This initiation and preliminary results of review and notice are in accordance with sections 751(b) and 777(i) of the Act and 19 CFR 351.216, 351.221, and 351.222.

Dated: August 7, 2006.
Joseph A. Spetrini,
Acting Assistant Secretary for Import Administration.

[FR Doc. E6-13168 Filed 8-10-06; 8:45 am]

BILLING CODE 3510-DS-S